DEPARTMENT OF THE INTERIOR

Bureau of Land Management

[LLIDI02000.L57000000.HV0000; IDI-35397; DGG-08-0001]

Notice of Realty Action; R&PP Classification and Land Sale; Idaho

AGENCY: Bureau of Land Management, (BLM), Interior.

ACTION: Notice.

SUMMARY: Recreation and Public Purposes application for classification and sale of 400 acres of public land in Bannock County, Idaho. Bannock County proposes to purchase the public land to use for landfill purposes.

DATES: Interested parties may submit written comments for a period of 45 days, or until February 19, 2009.

ADDRESSES: Send written comments to: David Pacioretty, Pocatello Field Manager, 4350 Cliffs Drive, Pocatello, Idaho 83201.

FOR FURTHER INFORMATION CONTACT: Contact Candi Aguirre, Realty Specialist, 208-478-6357.

SUPPLEMENTARY INFORMATION: The 400 acres of public land applied for under the Recreation and Public Purposes Act, as amended (43 U.S.C. 869 et seq.), have been examined and found suitable for classification and conveyance for landfill purposes. The parcel of land is located adjacent to Bannock County's existing Fort Hall Mine Landfill, and is legally described as:

Boise Meridian, Bannock County, Idaho

T. 7 S., R. 35 E.,

Sec. 28: SW¼ NW¼, sec. 29: NE¼ SE¼, SE¼ SE¼, sec. 32: NE¼ NE¼, SE¼ NE¼, sec. 33: NW¼, NW¼NE¼.

Containing 400 acres more or less.

The lands are not needed for Federal purposes. The conveyance is consistent with BLM land use planning and would be in the public interest. The patent, when issued, will be subject to the following terms, conditions and reservations:

1. Provisions of the Recreation and Public Purposes Act, as amended, and to all applicable regulations of the Secretary of the Interior.

2. A right-of-way for ditches and canals constructed by the authority of the United States.

3. All minerals shall be reserved to the United States, together with the right to prospect for, mine, and remove the minerals.

Detailed information concerning this action is available for review at the office of the Bureau of Land Management, Pocatello Field Office, 4350 Cliffs Drive, Pocatello, Idaho. Interested parties may submit written comments and recommendations regarding the proposed land classification and conveyance until February 19, 2009. Classification Comments: are restricted to whether the land is physically suited for landfill purposes, whether the use will maximize the future use or uses of the land, whether the land use is consistent with local planning and zoning, or if the use is consistent with State and Federal programs.

R&PP Application Comments: should be regarding the proposed use by Bannock County and whether the BLM followed proper administrative procedure, or any other factor not directly related to the suitability of the land for landfill purposes. Any adverse comments will be reviewed by the Idaho State Director who may sustain, vacate, or modify this realty action. In the absence of any adverse comments, the classification will become effective on March 6, 2009 and this realty action becomes the final determination of the Department of the Interior. Confidentiality of Comments: Before including your address, phone number, e-mail address, or other personal identifying information in your comment, you should be aware that your entire comment—including your personal identifying information—may be made publicly available at any time. While you can ask in your comment to withhold your personal identifying information from public review, we cannot guarantee that we will be able to do so.

Authority: 43 CFR 2741.5.

Dated: December 18, 2008.
David A. Pacioretty,
Pocatello Field Manager.

[FR Doc. E8-31197 Filed 1-2-09; 8:45 am]

BILLING CODE 4310-GG-P